CORPORATION FOR NATIONAL AND COMMUNITY SERVICE

Sunshine Act Notice

The Board of Directors of the Corporation for National and Community Service gives notice of the following meeting:

Date and Time: Wednesday, February 3, 2010, 10 a.m.-11:30 a.m.

Place: Corporation for National and Community Service, 1201 New York Avenue, NW., Suite 8312, Washington, DC 20525 (Please go to 10th floor reception area for escort).

Status: Open.

Matters to be Considered:

10-10:45 a.m.

I. Chair's Opening Comments

II. Consideration of Previous Meeting's Minutes

III. CEO Report

IV. Committee Reports: Oversight, Governance, and Audit Committee; Program, Budget, and Evaluation Committee; and External Relations Committee

10:45-11:30 a.m.

V. Public Comments

Accommodations: Anyone who needs an interpreter or other accommodation should notify the Corporation's contact person by 5 p.m., February 1, 2010.

Contact Person for More Information: Emily Samose, Office of the CEO, Corporation for National and Community Service, 10th Floor, Room 9613C, 1201 New York Avenue NW., Washington, DC 20525. Phone (202) 606-7564. Fax (202) 606-3460. TDD: (202) 606-3472. E-mail: esamose@cns.gov.

Dated: January 26, 2010.
Frank R. Trinity,
General Counsel.

[FR Doc. 2010-2013 Filed 1-27-10; 4:15 pm]

BILLING CODE 6050-$$-P